DEPARTMENT OF TRANSPORTATION

National Highway Traffic Safety Administration (NHTSA)

Denial of Motor Vehicle Defect Petition

AGENCY: National Highway Traffic Safety Administration (NHTSA), Department of Transportation.

ACTION: Denial of motor vehicle defect petition.

SUMMARY: This notice sets forth the reasons for the denial of a petition submitted to NHTSA under 49 U.S.C. 30162 by William A. Schroeder, requesting that the agency commence a proceeding to determine the existence of a defect related to motor vehicle safety in the ignition distributor in certain Honda vehicles. After a review of the petition and other information, NHTSA has concluded that further expenditure of the agency's investigative resources on the issues raised by the petition does not appear to be warranted. The agency accordingly has denied the petition.

FOR FURTHER INFORMATION CONTACT: Mr. Jonathan White, Chief, Defect and Recall Information Analysis Division, Office of Defects Investigation (ODI), NHTSA, 400 7th Street, SW., Washington, DC 20590. Telephone (202) 366-5226.

SUPPLEMENTARY INFORMATION: On October 18, 2000, Mr. William Schroeder submitted a petition requesting that the agency investigate “Distributor Units on Honda cars.” Mr. Schroeder experienced a distributor bearing failure in October 2000 on his model year (MY) 1992 Honda Civic. The petition alleges that ignition distributor bearings may fail suddenly, which would cause the engine to stall. It also alleges that an engine compartment fire may occur.

The ignition distributor (distributor) is a engine component that distributes high voltage current to the spark plugs. It has a center shaft that is driven by the engine camshaft, and it supports a distributor cap and rotor. The high voltage surges are directed, one at a time, to each outer terminal of the distributor cap by the rotor, which is rotated by the distributor shaft. Spark plug wires are connected from these outer terminals to each engine spark plug. The distributor shaft is supported at the camshaft end by a bearing, which is the subject of this petition. If this bearing seizes, the distributor shaft will not rotate and distribute voltage to the spark plugs, causing the engine to stall or fail to start.

In December 1995, after experiencing high warranty claims and owner failure reports, American Honda Motor Company, Inc. (Honda) issued Technical Service Bulletin (TSB) 95-049 and initiated a Product Update Campaign to replace distributors in all MY 1992 and certain MY 1993 Honda Accords registered in a portion of the southeastern United States. This area of the country was targeted because Honda concluded that high heat and humidity conditions were major causes of these distributor bearing failures. Also, at that time, Honda extended the warranty for the distributor on MY 1992-93 Accords registered in the remainder of the United States to six years/75,000 miles. Honda's position was that the distributor bearing may develop excessive clearance and cause an engine no-start condition, but that this was not a safety problem. Honda did not extend this Product Update Campaign or warranty to MY 1992 Civics because the distributor bearing failure rate in those vehicles was low.

To date, ODI has received nine complaints alleging distributor bearing failures on MY 1992 Honda Civics, and 10 complaints alleging non-specific distributor failures on those vehicles, at an average mileage of 98,400 miles. Seven of the ODI reports allege engine stalling, and one fire was allegedly caused by a seized distributor in 1995. Only two of the 19 incidents occurred during the past two years.

In response to an ODI inquiry, Honda submitted 1,175 owner and field reports of distributor bearing failures, and 1,628 warranty claims relating to all types of distributor failures, including 19 reports of engine stalling, in MY 1992 Honda Civics. Honda also submitted one report of a fire allegedly caused by a defective distributor, but Honda contends that this had no connection with a distributor bearing failure.

There have been no reports of crashes, injuries or fatalities relating to distributor bearing and/or distributor failures in 1992 Honda Civic vehicles—a vehicle population of 190,000.

Information obtained during ODI's review of the petition indicates that the distributor bearing failure on these vehicles is almost always progressive, and that warnings such as significant bearing noise, poor engine performance, and starting difficulty are clearly evident to the operator long before the bearing seizes and causes the engine to stop running. Further, the risk of engine compartment fires caused by distributor bearing failures is extremely low.

For the foregoing reasons, further expenditure of the agency's investigative resources on the issues raised by the petition does not appear to be warranted. Therefore, the petition is denied.

Authority: 49 U.S.C. 30162(d); delegations of authority at CFR 1.50 and 501.8.

Issued on: October 25, 2001.
Kenneth N. Weinstein,
Associate Administrator for Safety Assurance.

[FR Doc. 01-27406 Filed 10-31-01; 8:45 am]

BILLING CODE 4910-59-P